DEPARTMENT OF TRANSPORTATION

Federal Aviation Administration

[Docket No. FAA-2018-0116]

RIN 2120-AA64

Notice of Relocation; Change of Physical Address for the Federal Aviation Administration Northwest Mountain Regional Office

AGENCY: Federal Aviation Administration (FAA), DOT.

ACTION: Notice.

SUMMARY: The FAA announces the relocation of the FAA Northwest Mountain Regional Office, which issues airworthiness directives (ADs) for transport category airplanes.

DATES: This address change takes effect February 28, 2018.

FOR FURTHER INFORMATION CONTACT: David A. Lee, Program Manager, Airworthiness & Technical Communications Section, Transport Standards Branch, FAA, 2200 South 216th St., Des Moines, WA 98198; telephone 206-231-3197; email David.A.Lee@faa.gov.

SUPPLEMENTARY INFORMATION:

Discussion

The FAA Northwest Mountain Regional Office is relocating from 1601 Lind Ave. SW, Renton, WA 98057, to 2200 South 216th St., Des Moines, WA 98198. Service information related to ADs that cannot be placed in the docket is available for review in the office of the Transport Standards Branch, which is relocating with the Northwest Mountain Regional Office effective March 12, 2018.

Conclusion

Effective March 12, 2018, the address for mailing correspondence or reviewing service information related to ADs issued on transport category airplanes is FAA, Transport Standards Branch, 2200 South 216th St., Des Moines, WA 98198. For information on the availability of this material at the FAA, call 206-231-3195.

Issued in Renton, Washington, on February 20, 2018.
Michael Kaszycki,
Acting Director, System Oversight Division, Aircraft Certification Service.

[FR Doc. 2018-04022 Filed 2-27-18; 8:45 am]

BILLING CODE 4910-13-P